DEPARTMENT OF ENERGY

Federal Energy Regulatory Commission

Combined Notice of Filings #1

Take notice that the Commission received the following electric corporate filings:

Docket Numbers: EC24-7-000.

Applicants: GC PGR AssetCo, LLC.

Description: Joint Application for Authorization Under Section 203 of the Federal Power Act of GC PGR AssetCo, LLC.

Filed Date: 10/16/23.

Accession Number: 20231016-5245.

Comment Date: 5 p.m. ET 11/6/23.

Take notice that the Commission received the following electric rate filings:

Docket Numbers: ER23-2112-001.

Applicants: Sandy Ridge Wind 2, LLC.

Description: Sandy Ridge Wind 2, LLC submits Response to the August 4, 2023 Deficiency Letter re the June 9, 2023 Federal Power Act Section 205 filing.

Filed Date: 10/5/23.

Accession Number: 20231005-5160.

Comment Date: 5 p.m. ET 10/26/23.

Docket Numbers: ER23-2398-001.

Applicants: Arizona Public Service Company.

Description: Compliance filing: Interconnection Reforms—Compliance Filing to be effective 9/30/2023.

Filed Date: 10/17/23.

Accession Number: 20231017-5100.

Comment Date: 5 p.m. ET 11/7/23.

Docket Numbers: ER23-2673-001.

Applicants: Midcontinent Independent System Operator, Inc., Ameren Illinois Company.

Description: Tariff Amendment: Midcontinent Independent System Operator, Inc. submits tariff filing per 35.17(b): 2023-10-17_SA 4155 Ameren IL-Coles Wind Substitute E&P (J2128) to be effective 8/22/2023.

Filed Date: 10/17/23.

Accession Number: 20231017-5006.

Comment Date: 5 p.m. ET 11/7/23.

Docket Numbers: ER24-120-000.

Applicants: Public Service Company of Colorado.

Description: Tariff Amendment: 2023-10-16—SWF Info-2020-9—NOC to be effective 10/17/2023.

Filed Date: 10/16/23.

Accession Number: 20231016-5176.

Comment Date: 5 p.m. ET 11/6/23.

Docket Numbers: ER24-121-000.

Applicants: AEP Texas Inc.

Description: § 205(d) Rate Filing: AEPTX-BRP BLUE TOPAZ 6 Generation Interconnection Agreements to be effective 9/22/2023.

Filed Date: 10/16/23.

Accession Number: 20231016-5188.

Comment Date: 5 p.m. ET 11/6/23.

Docket Numbers: ER24-122-000.

Applicants: PJM Interconnection, L.L.C.

Description: Tariff Amendment: Notice of Cancellation of Service Agreement Nos. 6651/6652; Queue No. AG1-080 to be effective 12/16/2023.

Filed Date: 10/16/23.

Accession Number: 20231016-5191.

Comment Date: 5 p.m. ET 11/6/23.

Docket Numbers: ER24-123-000.

Applicants: PJM Interconnection, L.L.C.

Description: § 205(d) Rate Filing: Original ISA, SA No. 7117; Queue No. AF2-122 & Cancellation of IISA, SA No. 6166 to be effective 9/14/2023.

Filed Date: 10/16/23.

Accession Number: 20231016-5196.

Comment Date: 5 p.m. ET 11/6/23.

Docket Numbers: ER24-124-000.

Applicants: PJM Interconnection, L.L.C.

Description: § 205(d) Rate Filing: Original ISA, Service Agreement No. 7120; Queue No. AE2-089 to be effective 9/14/2023.

Filed Date: 10/16/23.

Accession Number: 20231016-5209.

Comment Date: 5 p.m. ET 11/6/23.

Docket Numbers: ER24-125-000.

Applicants: ISO New England Inc., New England Power Company.

Description: § 205(d) Rate Filing: ISO New England Inc. submits tariff filing per 35.13(a)(2)(iii): NEP; Rev. to Fixed Exp. Amt. for Transmission-Related Post-Retirement Benefits to be effective 1/1/2024.

Filed Date: 10/17/23.

Accession Number: 20231017-5076.

Comment Date: 5 p.m. ET 11/7/23.

Docket Numbers: ER24-126-000.

Applicants: Public Service Company of Colorado.

Description: Tariff Amendment: 2023-10-17—NEXR—PLGIA—610 NOC 0.1.0 to be effective 10/18/2023.

Filed Date: 10/17/23.

Accession Number: 20231017-5082.

Comment Date: 5 p.m. ET 11/7/23.

Docket Numbers: ER24-127-000.

Applicants: Alabama Power Company, Georgia Power Company, Mississippi Power Company.

Description: Tariff Amendment: Alabama Power Company submits tariff filing per 35.15: Anniston Solar LGIA Termination Filing to be effective 10/17/2023.

Filed Date: 10/17/23.

Accession Number: 20231017-5099.

Comment Date: 5 p.m. ET 11/7/23.

Docket Numbers: ER24-128-000.

Applicants: Duke Energy Ohio, Inc.

Description: § 205(d) Rate Filing: DEO-Nestlewood RS No. 282 to be effective 12/15/2023.

Filed Date: 10/17/23.

Accession Number: 20231017-5123.

Comment Date: 5 p.m. ET 11/7/23.

Take notice that the Commission received the following qualifying facility filings:

Docket Numbers: QF24-54-000.

Applicants: Peoples Natural Gas Company LLC.

Description: Form 556 of Peoples Natural Gas Company LLC.

Filed Date: 10/17/23.

Accession Number: 20231017-5091.

Comment Date: 5 p.m. ET 11/7/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 17, 2023.
Debbie-Anne A. Reese,
Deputy Secretary.

[FR Doc. 2023-23356 Filed 10-20-23; 8:45 am]

BILLING CODE 6717-01-P